DEPARTMENT OF ENERGY

Federal Energy Regulatory Commission

[Project No. 12451-001]

SAF Hydroelectric, LLC; Notice of Application Ready for Environmental Analysis and Soliciting Comments, Recommendations, Terms and Conditions, and Prescriptions; and Revised Schedule for Processing Application

June 16, 2004.

Take notice that the following hydroelectric application has been filed with the Commission and is available for public inspection:

a. Type of Application: Original Major License.

b. Project No.: 12451-001.

c. Date filed: January 20, 2004.

d. Applicant: SAF Hydroelectric, LLC.

e. Name of Project: Lower St. Anthony Falls Hydroelectric Project.

f. Location: On the Mississippi River, in the Town of Minneapolis, Hennepin County, Minnesota. The project affects federal lands.

g. Filed Pursuant to: Federal Power Act, 16 U.S.C. §§ 791(a)-825(r).

h. Applicant Contact: Douglas A. Spaulding P.E., Spaulding Consultants, 1433 Utica Avenue South Suite 162, Minneapolis, MN 55416, (952) 544-8133 or Robert Larson, 33 South 6th Street, Minneapolis, MN 55402, (612) 343-2913.

i. FERC Contact: Kim Carter at (202) 502-6486, or kim.carter@ferc.gov.

j. The deadline for filing comments, recommendations, terms and conditions, and prescriptions is 60 days from the issuance date of this notice. Reply comments are due 105 days from the issuance date of this notice.

All documents (original and eight copies) should be filed with: Magalie R. Salas, Secretary, Federal Energy Regulatory Commission, 888 First Street, NE. Washington, DC 20426.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filings. See 18 CFR 385.2001(a)(1)(iii) and the instructions on the Commission's Web site (http://www.ferc.gov) under the “eFiling” link.

k. Status of environmental analysis: This application is ready for environmental analysis.

l. Description of Project: The proposed Lower St. Anthony Falls Hydroelectric Project would be located at the U.S. Army Corps of Engineers (Corps) Lower St. Anthony Falls Lock and Dam and would utilize 5.9 acres of Corps lands. The generation turbines would be located in an auxiliary lock chamber adjacent to the Corp's main lock chamber. An auxiliary building, storage yard, and buried transmission line would occupy additional Corps lands. The project would operate according to the Corp's current operating criteria which maintain a constant water surface elevation of approximately 750.0 mean sea level in the 33.5-acre reservoir.

The proposed project would consist of the following features: (1) 16 turbine/generator units grouped in eight 6.2-foot-wide by 12.76-foot-high steel modules having a total installed capacity of 8,980 kilowatts, each module contains 2 turbine/generator sets (two horizontal rows of 1 unit each) installed in eight stoplog slots on the auxiliary lock structure; (2) trashracks located at the turbine intake; (3) a 1,050-foot-long, 13,800-volt buried transmission line; (4) a 21-foot by 81-foot control building to house switchgear and controls; (5) a 20-foot by 30-foot project office and storage building; and (6) appurtenant facilities.

The applicant estimates that the average annual generation would be about 57,434,000 kilowatt-hours.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659. Copies are also available for inspection and reproduction at the addresses in item h above.

Register online at http://www.ferc.gov/esubscribenow.htm to be notified via email of new filings and issuances related to this or other pending projects. For assistance, contact FERC Online Support.

All filings must: (1) Bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

n. Public notice of the filing of the initial development application, which has already been given, established the due date for filing competing applications or notices of intent. Under the Commission's regulations, any competing development application must be filed in response to and in compliance with public notice of the initial development application. No competing applications or notices of intent may be filed in response to this notice.

o. Procedures schedule: The Commission staff proposes to issue one Environmental Assessment (EA) rather than issuing a draft and final EA. Staff intends to allow at least 30 days for entities to comment on the EA, and will take into consideration all comments received on the EA before final action is taken on the license application. If any person or organization objects to the staff proposed alternative procedure, they should file comments as stipulated in item j above, briefly explaining the basis for their objection.

The remaining schedule for processing this application is shown below. Revisions to this schedule may be made as appropriate.

Action | Target date
Issue Notice Ready for Environmental Analysis/Soliciting Final Comments, Recommendations, Terms and Conditions | June 2004.
Deadline for Agency Comments, Recommendations, Terms and Conditions | August 2004.
Issue Notice of the availability of the EA | Sept./Oct. 2004.
Public Comments on EA due | Oct./Nov. 2004.
Ready for Commission decision on the application | December 2004.

Unless substantial comments are received in response to the EA, staff intends to prepare a single EA in this case. If substantial comments are received in response to the EA, a final EA will be prepared with the following modifications to the schedule.

Notice of the availability of the final EA: January 2005.

Ready for Commission's decision on the application: March 2005.

Magalie R. Salas,
Secretary.

[FR Doc. E4-1395 Filed 6-23-04; 8:45 am]

BILLING CODE 6717-01-P